DEPARTMENT OF ENERGY

Federal Energy Regulatory Commission

[Docket No. EG01-230-000, et al.]

Metro Energy, L.L.C., et al.; Electric Rate and Corporate Regulation Filings

June 20, 2001.

Take notice that the following filings have been made with the Commission:

1. Metro Energy, L.L.C.

[Docket No EG01-230-000]

Take notice that on June 15, 2000, Metro Energy, L.L.C., a Michigan limited liability company with its principal place of business at 425 South Main Street, Suite 201, Ann Arbor, Michigan 48107, filed with the Federal Energy Regulatory Commission (Commission) an application for determination of exempt wholesale generator status pursuant to Section 32 of the Public Utility Holding Company Act of 1935 and Part 365 of the Commission's regulations.

Applicant is developing a 17 MW electric generating facility located in Wayne County, Michigan and will be engaged exclusively in the business of owning and operating the facility and selling electric energy at wholesale.

Comment date: July 11, 2001, in accordance with Standard Paragraph E at the end of this notice. The Commission will limit its consideration of comments to those that concern the adequacy or accuracy of the application.

2. Mobile Energy, LLC, SkyGen Investors, LLC, InterGen (North America Inc., Tejas Power Generation LLC

[Docket No. EC01-117-000]

Take notice that on June 13, 2001, Mobile Energy LLC (Mobile), SkyGen Investors LLC (SkyGen), InterGen (North America) Inc. (InterGen), and Tejas Power Generation LLC (Tejas) (collectively, Applicants) submitted for filing an application under section 203 of the Federal Power Act for authorization of a disposition of jurisdictional facilities in connection with the transfer of an equity interest in Mobile from InterGen's affiliate Tejas to SkyGen or its affiliate.

Comment date: August 13, 2001, in accordance with Standard Paragraph E at the end of this notice.

3. Entergy Power Holdings USA Corporation, Occidental Chemical Corporation

[Docket No. QF01-106-000]

Take notice that on June 15, 2001, Entergy Power Holdings USA Corporation and Occidental Chemical Corporation (OxyChem) filed with the Federal Energy Regulatory Commission (Commission) an application for certification of a facility as a qualifying cogeneration facility pursuant to Section 292.207(b) of the Commission's regulations. No determination has been made that the submittal constitutes a complete filing.

The facility will be an approximately 588 megawatt combined cycle cogeneration facility, primarily fired by natural gas (the Facility) and will be located in Convent, Louisiana. Thermal energy from the Facility will be used by OxyChem's chlor-alkali plant. The Facility will be owned by Convent Cogen, LLC. The Facility will be interconnected with the Entergy Louisiana, Inc. system.

Comment date: July 5, 2001, in accordance with Standard Paragraph E at the end of this notice.

4. Carolina Power & Light Company, Duke Energy Corporation, South Carolina Electric & Gas Company, GridSouth Transco, LLC

[Docket No. RT01-74-004]

Take notice that on June 15, 2001, Carolina Power & Light Company, Duke Energy Corporation, a behalf of GridSouth Transco, LLC, submitted an erratum to their May 14, 2001 supplemental filing. The erratum corrects Pro Forma Tariff Sheet No. 303 of the GridSouth Open Access Transmission Tariff.

Comment date: July 5, 2001, in accordance with Standard Paragraph E at the end of this notice.

5. Public Service Company of New Mexico

[Docket No. ER01-1677-002]

Take notice that on June 15, 2001, Public Service Company of New Mexico (PNM) tendered for filing a Compliance Filing in association with PNM's earlier filing (dated March 30, 2001) of its completely revised version of PNM's Open Access Transmission Tariff (OATT) to: (1) Incorporate a new Attachment J—Generator Interconnection Procedures, a new Attachment J-1—Request for Interconnection of Generation With The PNM Transmission System, and a new Attachment K—Index of Interconnection Service Customers; and (2) conform its OATT to FERC Order No. 614 Identification and Numbering requirements. PNM's Compliance Filing incorporates certain changes to the new Generator Interconnection Procedure identified in the Commission's May 16, 2001 Order Conditionally Accepting Amended Tariff, 95 FERC 61,214. PNM's filing is available for public inspection at its offices in Albuquerque, New Mexico.

Copies of the filing have been sent to all PNM Tariff customers, all entities that have pending interconnection requests with PNM and the New Mexico Public Regulation Commission.

Comment date: July 6, 2001, in accordance with Standard Paragraph E at the end of this notice.

6. Reliant Energy Services, Inc., Reliant Energy Coolwater, LLC, Reliant Energy Ellwood, LLC, Reliant Energy Etiwanda, LLC, Reliant Energy Mandalay, LLC, and Reliant Energy Ormond Beach, LLC

[Docket Nos. ER99-1801-005, ER99-2082-002, ER99-2081-002, ER99-2083-002, ER99-2080-002 and ER99-2079-002]

Take notice that on June 15, 2001, Reliant Energy Coolwater, LLC, Reliant Energy Ellwood, LLC, Reliant Energy Etiwanda, LLC, Reliant Energy Mandalay, LLC, Reliant Energy Ormond Beach, LLC and Reliant Energy Services, Inc. tendered for filing an updated market study in compliance with the Commission's Orders in Ormond Beach Power Generation, L.L.C., 83 FERC (CCH) 61,306 (1998); Ocean Vista Power Generation, L.L.C., et al., 82 FERC. (CCH) 61,114 (1998); NorAm Energy Services, Inc., Letter Order, Docket No. ER94-1247-000 (July 25, 1994) and the Notice of Extension of Time issued in these dockets on May 29, 2001.

Comment date: July 6, 2001, in accordance with Standard Paragraph E at the end of this notice.

7. Maine Public Service Company

[Docket No. ER00-1053-005]

Take notice that on June 15, 2001, pursuant to Section 2.4 of the Settlement Agreement filed on June 30, 2000, in Docket No. ER00-1053-000, and accepted by the Federal Energy Regulatory Commission on September 15, 2000, Maine Public Service Company (MPS) submits this informational filing setting forth the changed open access transmission tariff charges effective June 1, 2001 together with back-up materials.

Copies of this filing were served on the parties to the Settlement Agreement in Docket No. ER00-1053-000, the Commission Trial Staff, the Maine Public Utilities Commission, the Maine Public Advocate, and current MPS open access transmission tariff customers.

Comment date: July 6, 2001, in accordance with Standard Paragraph E at the end of this notice.

8. Ameren Energy Marketing Company

[Docket No. ER01-7-001]

Take notice that on June 15, 2001, Ameren Energy Marketing Company (AEM) submitted the compliance filing required by the Commission's December 12, 2000 order in Docket No. ER01-7-000. Copies of this filing were served on all parties included on the Commission's official service list established in this proceeding.

Comment date: July 6, 2001, in accordance with Standard Paragraph E at the end of this notice.

9. Central Vermont Public Service Corporation

[Docket No. ER01-2153-001]

Take notice that on June 15, 2001, Central Vermont Public Service Corporation (Central Vermont), tendered for filing an executed Service Agreement for Non-Firm Point-to-Point Transmission Service with Citizens Communications Company (Service Agreement) under Central Vermont's FERC Electric Tariff, First Revised Volume No. 7. The Service Agreement was refiled because the cover page for the Service Agreement was inadvertently omitted from the May 29, 2001 filing in this docket. Copies of the filing were served upon the above-mentioned company and the Vermont Public Service Board.

Central Vermont requests an effective date of May 29, 2001.

Comment date: July 6, 2001, in accordance with Standard Paragraph E at the end of this notice.

10. Idaho Power Company

[Docket No. ER01-2316-000]

Take notice that on June 14, 2001, Idaho Power Company filed a Service Agreement for Firm Point-to-Point Transmission Service between Idaho Power Delivery and Idaho Power Marketing, under its open access transmission tariff in the above-captioned proceeding.

Comment date: July 5, 2001, in accordance with Standard Paragraph E at the end of this notice.

11. American Electric Power Service Corporation

[Docket No. ER01-2322-000]

Take notice that on June 15, 2001, the American Electric Power Service Corporation (AEPSC) tendered for filing blanket Service Agreements for new customers and replacement blanket Service Agreements for existing customers under the AEP Companies' Power Sales Tariffs. The Power Sales Tariffs were accepted for filing effective October 10, 1997 and has been designated AEP Operating Companies' FERC Electric Tariff Original Volume No. 5 (Wholesale Tariff of the AEP Operating Companies) and FERC Electric Tariff Original Volume No. 8, Effective January 8, 1998 in Docket ER 98-542-000 (Market-Based Rate Power Sales Tariff of the CSW Operating Companies). A copy of the filing was served upon the Parties and the State Utility Regulatory Commissions of Arkansas, Indiana, Kentucky, Louisiana, Michigan, Ohio, Oklahoma, Tennessee, Texas, Virginia and West Virginia.

AEPSC respectfully requests waiver of notice to permit this service agreement to be made effective on or prior to May 16, 2001.

Comment date: July 6, 2001, in accordance with Standard Paragraph E at the end of this notice.

12. Arizona Public Service Company

[Docket No. ER01-2323-000]

Take notice that on June 15, 2001, Arizona Public Service Company (APS) tendered for filing umbrella Service Agreements to provide Short-Term Firm and Non-Firm Point-to-Point Transmission Service to Western Area Power Administration—Colorado River Storage Project under APS” Open Access Transmission Tariff.

A copy of this filing has been served on Western Area Power Administration Colorado River Storage Project and the Arizona Corporation Commission.

Comment date: July 6, 2001, in accordance with Standard Paragraph E at the end of this notice.

13. Florida Power & Light Co.

[Docket No. ER01-2324-000]

Take notice that on June 15, 2001, Florida Power & Light Company (FPL) filed as Service Agreement Nos. 178 and 179 under its Open Access Transmission Tariff, two System Impact Study Agreements, one with Seminole Electric Cooperative, Inc. and one with FPL's merchant function. FPL requests that these System Impact Study Agreements be made effective on May 31 and 17, 2001, respectively.

FPL requests that the Agreement with Seminole be made effective as of May 31, 2001 and that the Agreement with FPL's merchant function be made effective as of May 17, 2001.

Comment date: July 6, 2001, in accordance with Standard Paragraph E at the end of this notice.

14. PJM Interconnection, L.L.C

[Docket No. ER01-2327-000]

Take notice that on June 15, 2001, PJM Interconnection, L.L.C. (PJM) tendered for filing an amendment to section 17.8 of the PJM Open Access Transmission Tariff. The proposed amendment changes the deadline for reservations of daily, firm point-to-point transmission service from noon on the second day prior to commencement of service to noon on the day prior to the commencement of service. Copies of this filing were served upon all PJM members and each state electric utility regulatory commission in the PJM control area.

PJM requests an effective date of June 18, 2001.

Comment date: July 6, 2001, in accordance with Standard Paragraph E at the end of this notice.

15. Ohio Valley Electric Corporation

[Docket No. ER01-2328-000]

Take notice that on June 15, 2001, Ohio Valley Electric Corporation (OVEC) tendered for filing Modification No. 14, dated as of April 1, 2001, to the Inter-Company Power Agreement dated July 10, 1953 among OVEC and certain other utility companies named within that agreement as Sponsoring Companies (the Inter-Company Power Agreement). The Inter-Company Power Agreement bears the designation Ohio Valley Electric Corporation Rate Schedule FERC No. 4.

Mod. No. 14 is part of an arrangement intended to resolve certain issues that have arisen as a result of DOE's notice of cancellation of the power agreement between OVEC and the United States of America, currently acting by and through the Secretary of Energy, the statutory head of the United States Department of Energy (DOE) (the DOE Power Agreement). Mod. No. 14 to the Inter-Company Power Agreement is intended to allocate to the Sponsoring Companies shares of demand, energy and costs related to additional facilities and replacements, which will no longer be payable by DOE as a result of DOE's release of capacity and energy to the Sponsoring Companies and other arrangements related to DOE's notice of cancellation of the DOE Power Agreement.

OVEC has requested that the changes to the Inter-Company Power Agreement become effective as of June 1, 2001.

Copies of the filing were served upon Allegheny Energy Supply Company, L.L.C., Appalachian Power Company, The Cincinnati Gas & Electric Company, Columbus Southern Power Company, The Dayton Power and Light Company, FirstEnergy Generation Corp., Indiana Michigan Power Company, Kentucky Utilities Company, Louisville Gas and Electric Company, Monongahela Power Company, Ohio Edison Company, Ohio Power Company, Pennsylvania Power Company, The Potomac Edison Company, Southern Indiana Gas and Electric Company, The Toledo Edison Company, West Penn Power Company, the Utility Regulatory Commission of Indiana, the Public Service Commission of Kentucky, the Public Service Commission of Maryland, the Public Service Commission of Michigan, the Public Utilities Commission of Ohio, the Public Utility Commission of Pennsylvania, Tennessee Regulatory Authority, the State Corporation Commission of Virginia and the Public Service Commission of West Virginia.

Comment date: July 6, 2001, in accordance with Standard Paragraph E at the end of this notice.

16. Progress Energy, On Behalf of Florida Power Corporation

[Docket No. ER01-2330-000]

Take notice that on June 15, 2001, Florida Power Corporation (FPC) filed a Service Agreement with The City of Homestead under FPC's Cost-Based Rates Tariff (CR-1), FERC Electric Tariff No. 9. A copy of this filing was served upon the Florida Public Service Commission.

FPC is requesting an effective date of July 1, 2001 for this Agreement.

Comment date: July 5, 2001, in accordance with Standard Paragraph E at the end of this notice.

17. Old Dominion Electric Cooperative

[Docket No. ER01-2331-000]

Take notice that on June 15, 2001, Old Dominion Electric Cooperative (Applicant) filed an Application Submitting Service Agreement Pursuant to Market-Based Rate Authority And Request For Waivers, submitting a Service Agreement between the Applicant and Southside Electric Cooperative for service to a single, new delivery point pursuant to the Applicant's previously granted authority to make sales at market-based rates.

Ol Dominion requests an effective date of May 18, 2001.

Comment date: July 6, 2001, in accordance with Standard Paragraph E at the end of this notice.

18. PJM Interconnection, L.L.C.

[Docket No. ER01-2332-000]

Take notice that on June 15, 2001, PJM Interconnection, L.L.C. (PJM) tendered for filing an amendment to the PJM 2001-2002 Load Response Pilot Program attachment to Schedule 1 of the Amended and Restated Operating Agreement of PJM Interconnection, L.L.C. (Operating Agreement) and to the Appendix to Attachment K of the PJM Open Access Transmission Tariff (Tariff). The proposed amendment modifies Option 1: Emergency Load Response Program (Emergency Program) to provide that those entities that become Special Members of PJM solely to participate in the Emergency Program will not be subject to the provisions of the Operating Agreement that assess liability to PJM Members. Copies of this filing were served upon all PJM members and each state electric utility regulatory commission in the PJM control area.

PJM requests an effective date of June 1, 2001, corresponding to the effective date of the Emergency Program.

Comment date: July 6, 2001, in accordance with Standard Paragraph E at the end of this notice.

19. Oklahoma Gas and Electric Company

[Docket No. ER01-2333-000]

Take notice that on June 15, 2001, Oklahoma Gas and Electric Company (OG&E) filed to cancel its Electric Service Agreement with City Water and Light Plant of the City of Jonesboro, Arkansas, which has been designated OG&E Rate Schedule FERC No. 132, pursuant to Section 35.15 of the Federal Energy Regulatory Commission's (Commission) regulations. This filing has been served upon the affected purchaser.

OG&E requests acceptance of its notice and waiver of the 60-day notice requirement to permit the cancellation to become effective June 15, 2001, or such later date as authorized by the Commission.

Comment date: July 6, 2001, in accordance with Standard Paragraph E at the end of this notice.

20. Southern Company Services, Inc.

[Docket No. ER01-2334-000]

Take notice that on June 15, 2001, Southern Company Services, Inc. (SCS), acting on behalf of Alabama Power Company (APC), tendered for filing an Interconnection Agreement (IA) by and between APC and Tenaska Alabama III Partners, L.P. (Tenaska). The IA allows Tenaska to interconnect its generating facility to be located in Coosa County, Alabama, to APC's electric system.

An effective date of June 15, 2001 has been requested.

Comment date: July 6, 2001, in accordance with Standard Paragraph E at the end of this notice.

21. Duke Energy Vermillion, LLC

[Docket No. ER01-2335-000]

Take notice that on June 15, 2001, Duke Energy Vermillion, LLC (Duke Vermillion) submitted for filing an amendment to Service Agreement No. 1 under Duke Vermillion's FERC Electric Tariff, Original Volume No. 1.

Duke Vermillion requests an effective date for the amendment of June 1, 2001.

Comment date: July 6, 2001, in accordance with Standard Paragraph E at the end of this notice.

22. Consumers Energy Company

[Docket No. ER01-2336-000]

Take notice that on June 15, 2001 Consumers Energy Company (Consumers) tendered for filing a Service Agreement with Mirant Americas Energy Marketing, LP, (Customer) under Consumers' FERC Electric Tariff No. 9 for Market Based Sales.

Copies of the filing were served upon the Customer and the Michigan Public Service Commission.

Comment date: July 6, 2001, in accordance with Standard Paragraph E at the end of this notice.

23. Southern California Edison Company

[Docket No. ER01-2337-000]

Take notice that on June 15, 2001, Southern California Edison Company (SCE) tendered for filing revisions to the Amended and Restated Radial Lines Agreement (Amended Agreement) between SCE and AES Huntington Beach L.L.C. (AES).

The revisions to the Amended Agreement reflect the removal of one set of failed Coupling Capacitor Voltage Transformers (“CCVTs”) installed on the Ellis No. 1 Line at the Huntington Beach Substation and installation of new CCVTs, which were placed into service on April 6, 2001.

Copies of this filing were served upon the Public Utilities Commission of the State of California and AES.

Comment date: July 6, 2001, in accordance with Standard Paragraph E at the end of this notice.

24. Duke Energy Madison, LLC

[Docket No. ER01-2338-000]

Take notice that on June 15, 2001, Duke Energy Madison, LLC (Duke Madison) submitted for filing an amendment to Service Agreement No. 1 under Duke Madison's FERC Electric Tariff, Original Volume No. 1.

Duke Madison requests an effective date for the amendment of June 1, 2001.

Comment date: July 6, 2001, in accordance with Standard Paragraph E at the end of this notice.

25. Puget Sound Energy, Inc.

[Docket No. ER01-2339-000]

Take notice that on June 15, 2001, Puget Sound Energy, Inc., as Transmission Provider, tendered for filing a service agreement for Firm Point-To-Point Transmission Service and a service agreement for Non-Firm Point-To-Point Transmission Service with Avista Energy, Inc. (Avista), as Transmission Customer.

PSE respectfully requests that the service agreement become effective as of June 18, 2001.

A copy of the filing was served upon Avista.

Comment date: July 6, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-16221 Filed 6-27-01; 8:45 am]

BILLING CODE 6717-01-U